INTERNATIONAL TRADE COMMISSION

[Investigation No. 332-427]

U.S. Market Conditions for Certain Wool Articles

AGENCY: International Trade Commission.

ACTION: Change in deadline for written submissions in connection with the Commission's interim letter to USTR.

EFFECTIVE DATE: March 12, 2001.

FOR FURTHER INFORMATION CONTACT: For general information, contact Kim Freund (202-708-5402; kfreund@usitc.gov) of the Office of Industries; for information on legal aspects, contact William Gearhart (202-205-3091; wgearhart@usitc.gov) of the Office of the General Counsel. The media should contact Margaret O'Laughlin, Public Affairs Officer (202-205-1819). Hearing impaired individuals may obtain information on this matter by contacting the Commission's TDD terminal on 202-205-1810. Persons with mobility impairments who will need special assistance in gaining access to the Commission should contact the Office of the Secretary at 202-205-2000. General information about the Commission may be obtained by accessing its Internet server (http://www.usitc.gov).The public record for this investigation may be viewed on the Commission's electronic docket (EDIS-ON-LINE) at http://dockets.usitc.gov/eol/public.

SUPPLEMENTARY INFORMATION: Effective February 12, 2001, the Commission instituted an investigation on U.S. market conditions for certain wool articles and established a deadline for the receipt of written submissions in connection with the preparation of the interim letter for USTR (see 66 FR 11315, Feb. 23, 2001). The Commission has changed the deadline for receiving written submissions from March 7, 2001 to 20 calendar days (or the next workday thereafter if the 20th day falls on a weekend or holiday) following the U.S. Department of Commerce's publication of a notice in the Federal Register soliciting requests from U.S. manufacturers of men's and boys' worsted wool suits, suit-type jackets, and trousers to modify the limitations on the quantity of imports of worsted wool fabrics under the TRQs provided for in HTS headings 9902.51.11 and 9902.51.12. The Commission's rules do not authorize filing of submissions with the Secretary by facsimile or electronic means.

Interested parties may monitor the Department of Commerce's release of its solicitation for requests by accessing the Department of Commerce's Internet server (http://otexa.ita.doc.gov).

For further information concerning this investigation, see the Commission's notice of investigation cited above.

Issued: March 13, 2001.
By order of the Commission.
Donna R. Koehnke,
Secretary.

[FR Doc. 01-6670 Filed 3-16-01; 8:45 am]

BILLING CODE 7020-02-U